DEPARTMENT OF ENERGY

Federal Energy Regulatory Commission

Combined Notice of Filings

Take notice that the Commission has received the following Natural Gas Pipeline Rate and Refund Report filings:

Filings Instituting Proceedings

Docket Numbers: PR25-43-000.

Applicants: Public Service Company of Colorado.

Description: § 284.123(g) Rate Filing: Statement of Rates_02-17-2025 to be effective 2/17/2025.

Filed Date: 3/19/25.

Accession Number: 20250319-5125.

Comment Date: 5 p.m. ET 4/9/25.

§ 284.123(g) Protest: 5 p.m. ET 5/19/25.

Docket Numbers: RP25-727-000.

Applicants: UGI Sunbury, LLC.

Description: § 4(d) Rate Filing: Annual Retainage Adjustment w/Waivers & Expedited Treatment to be effective 4/1/2025.

Filed Date: 3/20/25.

Accession Number: 20250320-5121.

Comment Date: 5 p.m. ET 4/1/25.

Docket Numbers: RP25-728-000.

Applicants: Northwest Pipeline LLC.

Description: § 4(d) Rate Filing: Non-Conforming Service Agreement—Idaho Power to be effective 4/1/2025.

Filed Date: 3/20/25.

Accession Number: 20250320-5182.

Comment Date: 5 p.m. ET 4/1/25.

Docket Numbers: RP25-729-000.

Applicants: Oak Midstream LLC.

Description: § 4(d) Rate Filing: Baseline new to be effective 3/20/2025.

Filed Date: 3/20/25.

Accession Number: 20250320-5202.

Comment Date: 5 p.m. ET 4/1/25.

Docket Numbers: RP25-730-000.

Applicants: MountainWest Overthrust Pipeline, LLC.

Description: § 4(d) Rate Filing: Non-conforming Contract Amendments to be effective 4/1/2025.

Filed Date: 3/21/25.

Accession Number: 20250321-5080.

Comment Date: 5 p.m. ET 4/2/25.

Docket Numbers: RP25-731-000.

Applicants: Midcontinent Express Pipeline LLC.

Description: § 4(d) Rate Filing: MEP March 2025 NRA Filing to be effective 4/1/2025.

Filed Date: 3/21/25.

Accession Number: 20250321-5138.

Comment Date: 5 p.m. ET 4/2/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR20-46-002.

Applicants: AMP Intrastate Pipeline, LLC.

Description: Periodic Rate Review Certification Pursuant to 18 CFR 248.123g9ii to be effective N/A.

Filed Date: 3/20/25.

Accession Number: 20250320-5090.

Comment Date: 5 p.m. ET 4/10/25.

Docket Numbers: RP25-487-001.

Applicants: Trunkline Gas Company, LLC.

Description: Compliance filing: NAESB 4.0 Compliance—Corrected to be effective 8/1/2025.

Filed Date: 3/20/25.

Accession Number: 20250320-5089.

Comment Date: 5 p.m. ET 4/1/25.

Docket Numbers: RP25-488-001.

Applicants: Sea Robin Pipeline Company, LLC.

Description: Compliance filing: NAESB 4.0 Compliance—Corrected to be effective 8/1/2025.

Filed Date: 3/21/25.

Accession Number: 20250321-5069.

Comment Date: 5 p.m. ET 4/2/25.

Docket Numbers: RP25-489-001.

Applicants: Southwest Gas Storage Company.

Description: Compliance filing: NAESB 4.0 Compliance—Corrected to be effective 8/1/2025.

Filed Date: 3/21/25.

Accession Number: 20250321-5052.

Comment Date: 5 p.m. ET 4/2/25.

Any person desiring to protest in any the above proceedings must file in accordance with Rule 211 of the Commission's Regulations (18 CFR 385.211) on or before 5 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 21, 2025.
Carlos D. Clay,
Deputy Secretary.

[FR Doc. 2025-05309 Filed 3-27-25; 8:45 am]

BILLING CODE 6717-01-P